DEPARTMENT OF ENERGY

Federal Energy Regulatory Commission

[Project No. 14421-000]

Freedom Falls, LLC; Notice of Application Tendered for Filing With the Commission and Soliciting Additional Study Requests

Take notice that the following hydroelectric application has been filed with the Commission and is available for public inspection.

a. Type of Application: Exemption from Licensing.

b. Project No.: 14421-000.

c. Date filed: June 1, 2012.

d. Applicant: Freedom Falls, LLC.

e. Name of Project: Freedom Falls Hydroelectric Project.

f. Location: On Sandy Stream, in the Town of Freedom, Waldo County, Maine. The project would not occupy lands of the United States.

g. Filed Pursuant to: Public Utility Regulatory Policies Act of 1978, 16 U.S.C. 2705, 2708.

h. Applicant Contact: Anthony P. Grassi, Freedom Falls LLC, 363 Belfast Road, Camden, ME 04843, (207) 236-4663.

i. FERC Contact: Samantha Davidson, (202) 502-6839 or samantha.davidson@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 31, 2012.

All documents may be filed electronically via the Internet. See 18 CFR 385.2001(a)(1)(iii) and the instructions on the Commission's Web site http://www.ferc.gov/docs-filing/ferconline.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The proposed Freedom Falls Hydroelectric Project would consist of: (1) An existing 90-foot-long, 12-foot-high concrete-capped stone masonry dam with a 25-foot-long, 10-foot-high spillway with two vertical lift sluice gates and a crest elevation of 452.5 feet mean sea level (msl); (2) an existing 1.6-acre impoundment with a normal maximum water surface elevation of 453.0 feet msl; (3) a new intake structure equipped with an 8-foot-high, 5-foot-wide trashrack that would be modified to have 1-inch clear bar spacing, and a 3-foot-high, 4.75-foot-wide slide gate; (4) a new downstream American eel passage facility and working platform; (5) a new 60-foot-long, 30-inch-diameter steel penstock leading to; (6) an existing 20-foot-wide, by 30-foot-long generating room containing a new 38.3 kilowatt turbine-generator unit; (7) a new 20-foot-long, 5-foot-wide tailrace; (8) a new 30-foot-long, 110-volt transmission line; and (9) appurtenant facilities. The proposed project is estimated to generate an average of 66,000 kilowatt-hours annually.

o. A copy of the application is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

p. With this notice, we are initiating consultation with the Maine Historic Preservation Commission, as required by 106, National Historic Preservation Act, and the regulations of the Advisory Council on Historic Preservation, 36, CFR, at 800.4.

q. Procedural schedule: The application will be processed according to the following preliminary Hydro Licensing Schedule. Revisions to the schedule will be made as appropriate (e.g., if scoping is waived, the schedule would be shortened).

Issue Deficiency Letter | August 2012.
Issue Notice of Acceptance | October 2012.
Issue Scoping Document | November 2012.
Issue Notice of ready for environmental analysis | January 2013.
Issue Notice of the availability of the EA | May 2013.

Dated: June 13, 2012.
Kimberly D. Bose,
Secretary.

[FR Doc. 2012-14877 Filed 6-18-12; 8:45 am]

BILLING CODE 6717-01-P